LEGAL SERVICES CORPORATION

Notice to LSC Grantees of Application Process for Subgranting 2017 Midyear Basic Field Grant Funds

AGENCY: Legal Services Corporation.

ACTION: Notice of application dates and format for 2017 Basic Field Grant midyear subgrant applications.

SUMMARY: The Legal Services Corporation (LSC) is the national organization charged with administering Federal funds provided for civil legal services to low-income people. LSC hereby announces the submission dates for applications for subgrants of Basic Field Grant funds starting after June 1, 2017 but before January 1, 2018. LSC is also providing information about where applicants may locate subgrant application forms and directions for providing the information required to apply for a subgrant.

DATES: See SUPPLEMENTARY INFORMATION section for application dates.

ADDRESSES: Legal Services Corporation—Office of Compliance and Enforcement, 3333 K Street NW., Third Floor, Washington, DC 20007-3522.

FOR FURTHER INFORMATION CONTACT: Office of Compliance and Enforcement by email at subgrants@lsc.gov, or visit the LSC Web site at http://www.lsc.gov/grants-grantee-resources/grantee-guidance/how-apply-subgrant.

SUPPLEMENTARY INFORMATION: LSC revised its subgrant rule, 45 CFR part 1627, effective April 1, 2017. The revised rule requires LSC to publish, on an annual basis, “notice of the requirements concerning the format and contents of the application annually in the Federal Register and on its Web site.” 45 CFR 1627.4(b). This Notice and the publication of the Subgrant Application Forms on LSC's Web site satisfies § 1627.4(b)'s notice requirement for the Basic Field Grant program. Only current or prospective LSC grantees may apply. Notices regarding the subgrant application processes for subgranting 2018 LSC funds will be forthcoming.

Applications for subgrants of 2017 Basic Field Grant funds with starting dates between June 1, 2017 and January 1, 2018, must be submitted at least 45 days in advance of the proposed effective date. 45 CFR 1627.4(b)(3).

Subgrant applications must be submitted through LSC Grants at https://lscgrants.lsc.gov. Applicants may access the application under the “Subgrants” heading on their LSC Grants home page. Applicants may initiate an application by selecting “Initiate Subgrant Application.” Applicants must then provide the information requested in the LSC Grants data fields, located in the Subrecipient Profile, Subgrant Summary, and Subrecipient Budget screens, and upload the following documents:

• A draft Subgrant Agreement (with the required terms provided in Subgrant Application Form A);

• Subgrant Inquiry Form B (for new subgrants) or C (for renewal subgrants);

• The subrecipient's accounting manual (or letter indicating that the subrecipient does not have one and why);

• The subrecipient's most recent audited financial statement (or letter indicating that the subrecipient does not have one and why);

• The subrecipient's most recent Form 990 filed with the IRS (or letter indicating that the subrecipient does not have one and why);

• The subrecipient's current fidelity bond coverage (or letter indicating that the subrecipient does not have one);

• The subrecipient's conflict of interest policy (or letter indicating that the subrecipient does not have one); and

• The subrecipient's whistleblower policy (or letter indicating that the subrecipient does not have one).

Subgrant Application Forms A, B, and C are available on LSC's Web site at http://www.lsc.gov/grants-grantee-resources/grantee-guidance/how-apply-subgrant.

LSC encourages applicants to use LSC's Subgrant Agreement Form as a model subgrant agreement. If the applicant does not use LSC's Subgrant Agreement Form, the proposed agreement must include, at a minimum, the substance of the provisions in that form. LSC recommends that applicants pay careful attention to the terms included in, and instructions on, the Subgrant Agreement Form. Several of the terms have been modified from previous years and new terms have been added. LSC subgrant agreements effective after June 1, 2017 must reflect those modifications.

Once submitted, LSC will evaluate the application and provide applicants with instructions on any needed modifications to the information, documents, or Draft Agreement provided with the application. The applicant must then upload a final and signed subgrant agreement through LSC Grants. This can be done by selecting “Upload Signed Agreement” to the right of the application “Status” under the “Subgrant” heading on an applicant's LSC Grants home page.

As required by 45 CFR 1627.4(b)(3), LSC will inform applicants of its decision to disapprove, approve, or request modifications to the subgrant by no later than the subgrant's proposed effective date.

Stefanie K. Davis,
Assistant General Counsel.

[FR Doc. 2017-07890 Filed 4-18-17; 8:45 am]

BILLING CODE 7050-01-P